ENVIRONMENTAL PROTECTION AGENCY

40 CFR Part 180

[EPA-HQ-OPP-2005-0459; FRL-7771-9]

Endosulfan, Fenarimol, Imazalil, Oryzalin, Sodium Acifluorfen, Trifluralin, and Ziram; Proposed Tolerance Actions

AGENCY: Environmental Protection Agency (EPA).

ACTION: Proposed rule.

SUMMARY: EPA is proposing to revoke certain tolerances for the insecticide endosulfan, the fungicides fenarimol, imazalil, and ziram; and the herbicide trifluralin. Also, EPA is proposing to modify certain tolerances for the insecticide endosulfan, the fungicides fenarimol, imazalil, and ziram; and the herbicides sodium acifluorfen and trifluralin. In addition, EPA is proposing to establish new tolerances for the insecticide endosulfan, the fungicides fenarimol, imazalil, and ziram; and the herbicides oryzalin and trifluralin. The regulatory actions proposed in this document are part of the Agency's reregistration program under the Federal Insecticide, Fungicide, and Rodenticide Act (FIFRA), and the tolerance reassessment requirements of the Federal Food, Drug, and Cosmetic Act (FFDCA) section 408(q), as amended by the Food Quality Protection Act (FQPA) of 1996. By law, EPA is required by August 2006 to reassess the tolerances that were in existence on August 2, 1996. No tolerance reassessments will be counted at the time of a final rule because tolerances in existence on August 2, 1996, that are associated with actions proposed herein were previously counted as reassessed at the time of the completed Reregistration Eligibility Decision (RED), Report of the Food Quality Protection Act (FQPA) Tolerance Reassessment Progress and Risk Management Decision (TRED), or Federal Register action.

DATES: Comments must be received on or before June 26, 2006.

ADDRESSES: Submit your comments, identified by docket identification (ID) number EPA-HQ-OPP-2005-0459, by one of the following methods:

• Federal eRulemaking Portal: http://www.regulations.gov. Follow the on-line instructions for submitting comments.

• Mail: Office of Pesticide Programs (OPP) Regulatory Public Docket (7502C), Environmental Protection Agency, 1200 Pennsylvania Ave., NW., Washington, DC 20460-0001.

• Hand Delivery: OPP Regulatory Public Docket, Environmental Protection Agency, Rm. 119, Crystal Mall #2, 1801 S. Bell St., Arlington, VA. Deliveries are only accepted during the Docket's normal hours of operation (8:30 a.m. to 4 p.m., Monday through Friday, excluding legal holidays). Special arrangements should be made for deliveries of boxed information. The Docket telephone number is (703) 305-5805.

• Important Note: OPP will be moving to a new location the first week of May 2006. As a result, from Friday, April 28 to Friday, May 5, 2006, the OPP Regulatory Public Docket will NOT be accepting any deliveries at the Crystal Mall #2 address and this facility will be closed to the public. Beginning on May 8, 2006, the OPP Regulatory Public Docket will reopen at 8:30 a.m. and deliveries will be accepted in Rm. S-4400, One Potomac Yard (South Building), 2777 S. Crystal Drive, Arlington, VA 22202. The mail code for the mailing address will change to (7502P), but will otherwise remain the same. The OPP Regulatory Public Docket telephone number and hours of operation will remain the same after the move.

Instructions: Direct your comments to docket ID number EPA-HQ-OPP-2005-0459. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available in the electronic docket at http://www.regulations.gov, or, if only available in hard copy, at the OPP Regulatory Public Docket at the location identified under “Delivery” and “Important Note.” The hours of operation for this docket facility are from 8:30 a.m. to 4 p.m., Monday through Friday, excluding legal holidays. The docket telephone number is (703) 305-5805.

FOR FURTHER INFORMATION CONTACT: Kendra Tyler, Special Review and Reregistration Division (7508C), Office of Pesticide Programs, Environmental Protection Agency, 1200 Pennsylvania Ave., NW., Washington, DC 20460-0001; telephone number: (703) 308-0125; e-mail address:tyler.kendra@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions. The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

C. What Can I do if I Wish the Agency to Maintain a Tolerance that the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under FFDCA section 408(f) if needed. The order would specify data needed and the time frames for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

EPA is proposing to revoke, remove, modify, and establish specific tolerances for residues of the insecticide endosulfan, the fungicides fenarimol, imazalil, and ziram; and the herbicides oryzalin, sodium acifluorfen, and trifluralin in or on commodities listed in the regulatory text.

EPA is proposing these tolerance actions to implement the tolerance recommendations made during the reregistration and tolerance reassessment processes (including follow-up on canceled or additional uses of pesticides). As part of these processes, EPA is required to determine whether each of the amended tolerances meets the safety standard of the FQPA. The safety finding determination of “reasonable certainty of no harm” is discussed in detail in each Reregistration Eligibility Decision (RED) and Report of the Food Quality Protection Act (FQPA) Tolerance Reassessment Progress and Risk Management Decision (TRED) for the active ingredient. REDs and TREDs recommend the implementation of certain tolerance actions, including modifications to reflect current use patterns, meet safety findings, and change commodity names and groupings in accordance with new EPA policy. Printed copies of many REDs and TREDs may be obtained from EPA's National Service Center for Environmental Publications (EPA/NSCEP), P.O. Box 42419, Cincinnati, OH 45242-2419, telephone 1-800-490-9198; fax 1-513-489-8695; internet at http://www.epa.gov/ncepihom and from the National Technical Information Service (NTIS), 5285 Port Royal Road, Springfield, VA 22161, telephone 1-800-553-6847 or 703-605-6000; internet at http://www.ntis.gov. Electronic copies of REDs and TREDs are available on the internet for endosulfan, fenarimol, imazalil, oryzalin, sodium acifluorfen, trifluralin, and ziram in public dockets EPA-HQ-OPP-2002-0262, EPA-HQ-OPP-2002-0250, EPA-HQ-OPP-2002-0217, EPA-HQ-OPP-2003-0369, EPA-HQ-OPP-2003-0293, EPA-HQ-OPP-2004-0142, and EPA-HQ-OPP-2004-0194, respectively, at http://www.regulations.gov.

The selection of an individual tolerance level is based on crop field residue studies designed to produce the maximum residues under the existing or proposed product label. Generally, the level selected for a tolerance is a value slightly above the maximum residue found in such studies. The evaluation of whether a tolerance is safe is a separate inquiry. EPA recommends the raising of a tolerance when data show that: (1) Lawful use (sometimes through a label change) may result in a higher residue level on the commodity and (2) the tolerance remains safe, notwithstanding increased residue level allowed under the tolerance. In REDs, Chapter IV on “Risk management, Reregistration, and Tolerance Reassessment” typically describes the regulatory position, FQPA assessment, cumulative safety determination, determination of safety for U.S. general population, and safety for infants and children. In particular, the human health risk assessment document which supports the RED describes risk exposure estimates and whether the Agency has concerns. In TREDs, the Agency discusses its evaluation of the dietary risk associated with the active ingredient and whether it can determine that there is a reasonable certainty (with appropriate mitigation) that no harm to any population subgroup will result from aggregate exposure.

Explanations for proposed modifications in tolerances can be found in the RED and TRED document and in more detail in the Residue Chemistry Chapter document which supports the RED and TRED. Copies of the Residue Chemistry Chapter documents are found in the Administrative Record and paper copies for endosulfan, fenarimol, imazalil, oryzalin, sodium acifluorfen, and trifluralin can be found under their respective public docket numbers, identified above. Paper copies for ziram and imazalil are available in the public docket for this proposed rule. Electronic copies are available through EPA's electronic public docket and comment system, regulations.gov at http://www.regulations.gov. You may search for this proposed rule under docket number EPA-HQ-OPP-2005-0459, or for an individual chemical under its respective docket number, then click on that docket number to view its contents.

EPA has determined that the aggregate exposures and risks are not of concern for the above-mentioned pesticide active ingredients based upon the data identified in the RED or TRED which lists the submitted studies that the Agency found acceptable.

EPA has found that the tolerances that are proposed in this document to be modified, are safe, i.e., that there is a reasonable certainty that no harm will result to infants and children from aggregate exposure to the pesticide chemical residues, in accordance with section 408(b)(2)(C). (Note that changes to tolerance nomenclature do not constitute modifications of tolerances). These findings are discussed in detail in each RED or TRED. The references are available for inspection as described in this document under SUPPLEMENTARY INFORMATION.

In addition, EPA is proposing to revoke certain specific tolerances because either they are no longer needed or are associated with food uses that are no longer registered under FIFRA. Those instances where registrations were canceled were because the registrant failed to pay the required maintenance fee and/or the registrant voluntarily canceled one or more registered uses of the pesticide. It is EPA's general practice to propose revocation of those tolerances for residues of pesticide active ingredients on crop uses for which there are no active registrations under FIFRA, unless any person in comments on the proposal indicates a need for the tolerance to cover residues in or on imported commodities or domestic commodities legally treated.

EPA is proposing to revoke specific tolerances for combined imazalil residues of concern on the fat, liver, meat, and meat byproducts of hogs because the Agency has concluded that there is no reasonable expectation of finite residues in or on the commodities associated with the tolerances, and therefore these tolerances are no longer needed.

The determinations that there are no reasonable expectations of finite imazalil residues of concern on the fat, liver, meat, and meat byproducts of hogs were made based on the Agency's conclusion that there are no current imazalil commodity uses which are significant feed items for hogs. (While there is an imazalil tolerance for citrus dried pulp, the Agency does not consider it to be a significant feed item for hogs). Because EPA determined that there is no reasonable expectation of finite residues, under 40 CFR 180.6 the imazalil tolerances for hog, fat; hog, liver; hog, meat; and hog, meat byproducts are no longer needed under the FFDCA and can be proposed for revocation.

1. Endosulfan. Currently, the tolerance expression for residues is defined in terms of endosulfan and its metabolite endosulfan sulfate in 40 CFR 180.182. Because the tolerance expression should reflect the alpha- and beta-isomers of the parent compound, EPA is proposing to modify the tolerance expression in 40 CFR 180.182 in order to specify the alpha- and beta-isomers of the parent. Also, EPA is proposing to remove the “(N)” designation from all entries to conform to current Agency administrative practice (“N” designation means negligible residues).

Because no active registrations exist for use of endosulfan on globe artichokes, sugar beets, raspberries, safflower seeds, and sunflower seeds, the tolerances are no longer needed. Therefore, EPA is proposing in 40 CFR 180.182(a)(1) to revoke the tolerances for “artichoke, globe”; “beet, sugar, roots”; “raspberry”; “safflower, seed”; and “sunflower, seed.”

Based on available data on almond that show combined endosulfan residues of concern are non-detectable in or on almond kernels, the Agency has determined that the tolerance on almond should be increased to 0.3 ppm, the combined limits of detection. Therefore, EPA is proposing to increase the tolerance in 40 CFR 180.182(a)(1) for combined endosulfan residues of concern in or on “almond” from 0.2 to 0.3 ppm.

Based on available data on the grain and straw of barley and wheat that show combined endosulfan residues of concern as high as 0.30, 0.30, 0.35, and 0.38 ppm in/on barley grain, wheat grain, barley straw, and wheat straw, respectively, the Agency has determined that the tolerances on barley and wheat grain should be increased to 0.3 ppm and tolerances on barley and wheat straw should be increased to 0.4 ppm. Therefore, EPA is proposing to increase the tolerances in 40 CFR 180.182(a)(1) for combined endosulfan residues of concern in or on “barley, grain” and “wheat, grain” from 0.1 to 0.3 ppm, and “barley, straw” and “wheat, straw” from 0.2 to 0.4 ppm.

Based on available data on blueberry that show combined endosulfan residues of concern are non-detectable (<0.1 ppm), the Agency has determined that the tolerance on blueberry should be increased to 0.3 ppm, the combined limits of detection. Therefore, EPA is proposing to increase the tolerance in 40 CFR 180.182(a)(1) for combined endosulfan residues of concern in or on “blueberry” from 0.1 to 0.3 ppm.

Based on available data on broccoli that show combined endosulfan residues of concern as high as 2.41 ppm, the Agency has determined that the tolerance on broccoli should be increased to 3.0 ppm. Therefore, EPA is proposing to increase the tolerance in 40 CFR 180.182(a)(1) for combined endosulfan residues of concern in or on “broccoli” from 2.0 to 3.0 ppm.

Based on available data that show combined endosulfan residues of concern as high as 3.1 ppm on cabbage with wrapper leaves, the Agency has determined that the tolerance on cabbage should be increased to 4.0 ppm. Therefore, EPA is proposing to increase the tolerance in 40 CFR 180.182(a)(1) for combined endosulfan residues of concern in or on “cabbage” from 2.0 to 4.0 ppm.

Based on available data on celery that show combined endosulfan residues of concern as high as 7.0 ppm, the Agency has determined that the tolerance on celery should be increased to 8.0 ppm. Therefore, EPA is proposing to increase the tolerance in 40 CFR 180.182(a)(1) for combined endosulfan residues of concern in or on “celery” from 2.0 to 8.0 ppm.

Based on available data that show combined endosulfan residues of concern as high as 10.11 ppm in or on head lettuce with wrapper leaves and 5.72 ppm in or on leaf lettuce, the Agency has determined that the existing tolerance on lettuce should be split into separate tolerances for head lettuce and leaf lettuce, and increased to 11.0 ppm and 6.0 ppm, respectively. Therefore, EPA is proposing to split the tolerance in 40 CFR 180.182(a)(1) on lettuce into “lettuce, head” and “lettuce, leaf” and increase them for combined endosulfan residues of concern from 2.0 to 11.0 and 6.0 ppm, respectively.

Based on available data on oat grain, oat straw, rye grain, and rye straw that show combined endosulfan residues of concern as high as 0.30, 0.32, 0.30, and 0.30 ppm, respectively, the Agency has determined that the tolerances on oat grain, oat straw, rye grain, and rye straw should be increased to 0.3, 0.4, 0.3, and 0.3 ppm, respectively. Therefore, EPA is proposing to increase the tolerances in 40 CFR 180.182(a)(1) for combined endosulfan residues of concern in or on “oat, grain” from 0.1 to 0.3 ppm; “oat, straw” from 0.2 to 0.4 ppm; “rye, grain” from 0.1 to 0.3 ppm; and rye, straw from 0.2 to 0.3 ppm.

Available ruminant metabolism data indicate that combined endosulfan residues of concern at 1.1x and 1.7x the maximum dietary burden for beef and dairy cattle, respectively were 0.78 ppm in milk, 12 ppm in fat, 0.85 ppm in kidney, 4.6 ppm in liver, and 2.0 ppm in muscle. The Agency determined that separate tolerances for liver should be established and that the tolerances for meat byproducts should be revised to meat byproducts, except liver and the appropriate tolerances for fat, meat byproducts (except liver), liver, and meat of cattle, goats, hogs, horses, and sheep should be increased to 13.0, 1.0, 5.0, and 2.0 ppm, respectively. Also, the Agency determined that the tolerance for milk fat should be increased to 2.0 ppm. Therefore, EPA is proposing to increase the commodity tolerances in 40 CFR 180.182(a)(1) for combined endosulfan residues of concern in or on “cattle, fat”; “goat, fat”; “hog, fat”; “horse, fat”; and “sheep, fat” from 0.2 to 13.0 ppm; “cattle, meat byproducts, except liver”; “goat, meat byproducts, except liver”; “hog, meat byproducts, except liver”; “horse, meat byproducts, except liver”; and “sheep, meat byproducts, except liver” from 0.2 to 1.0 ppm; “cattle, meat”; “goat, meat”; “hog, meat”; “horse, meat”; and “sheep, meat” from 0.2 to 2.0 ppm; “milk, fat (=N in whole milk)” from 0.5 to 2.0 ppm; and establish tolerances at 5.0 ppm for “cattle, liver”; “goat, liver”; “hog, liver”; “horse, liver”; and “sheep, liver.”

Based on available data on cantaloupes, cucumbers, and summer squash that show combined endosulfan residues of concern as high as 0.76, 0.66, and 0.25 ppm, respectively, the Agency has determined that the tolerances on melon, cucumber, and summer squash should be decreased to 1.0 ppm. Also, the available data for melon, cucumber, and summer squash may be translated to pumpkin and winter squash. Therefore, EPA is proposing to combine the individual tolerances in 40 CFR 180.182(a)(1) on cucumber, melon, pumpkin, squash, summer; and squash, winter into “vegetable, cucurbit, group 9” and decrease the tolerance for combined endosulfan residues of concern from 2.0 to 1.0 ppm.

Based on available data on tomato that show combined endosulfan residues of concern as high as 0.97 ppm, respectively, the Agency has determined that the tolerance on tomato should be decreased to 1.0 ppm. Also, the available data for tomato may be translated to eggplant. Therefore, EPA is proposing to decrease the tolerances in 40 CFR 180.182(a)(1) for combined endosulfan residues of concern in or on “eggplant” from 2.0 to 1.0 ppm and “tomato” from 2.0 to 1.0 ppm.

Based on available data on sweet potatoes that show combined endosulfan residues of concern are non-detectable (each <0.05 ppm), the Agency has determined that the tolerance on sweet potato should be decreased to 0.15 ppm. Therefore, EPA is proposing to decrease the tolerance in 40 CFR 180.182(a)(1) for combined endosulfan residues of concern in or on “sweet potato, roots” from 0.2 to 0.15 ppm.

Based on available data on apple that show combined endosulfan residues of concern as high as 0.84 ppm, the Agency has determined that the tolerance on apple should be decreased to 1.0 ppm. This level is also compatible with CODEX Alimentarius Commission Maximum Residue Limits (MRLs) for endosulfan residues on pome fruits. Therefore, EPA is proposing to decrease the tolerance in 40 CFR 180.182(a)(1) for combined endosulfan residues of concern in or on “apple” from 2.0 to 1.0 ppm.

Apple processing data indicate that combined endosulfan residues of concern concentrate by 6x in wet apple pomace. Based on HAFT combined residues of 0.77 ppm in/on apples, combined residues as high as 4.62 ppm would be expected. Therefore, EPA is proposing in 40 CFR 180.182(a)(1) to establish a tolerance for combined endosulfan residues of concern in or on “apple, wet pomace” at 5.0 ppm.

Based on available data on pineapple that show combined endosulfan residues of concern as high as 0.5 ppm, the Agency has determined that the tolerance on pineapple should be decreased to 1.0 ppm. Therefore, EPA is proposing to decrease the tolerance in 40 CFR 180.182(a)(1) for combined endosulfan residues of concern in or on “pineapple” from 2.0 to 1.0 ppm.

Based on processing data that indicate combined endosulfan residues of concern concentrate 7x in peel and 41x in bran processed from whole pineapple and a HAFT combined residues of 0.44 ppm for in/on pineapple, residues as high as 18.04 ppm would be expected and the Agency determined that a tolerance for pineapple process residue (also known as wet bran) should be established at 20.0 ppm. Although, the RED and Residue Chemistry Chapters have tables which inadvertently are listed as 18 ppm; the text within the RED and Residue Chemistry Chapter both state that 20.0 ppm is appropriate. Therefore, EPA is proposing in 40 CFR 180.182(a)(1) to establish a tolerance for combined endosulfan residues of concern in or on “pineapple, process residue” at 20.0 ppm.

Based on available data on sweet corn that show combined endosulfan residues of concern as high as 12.0 ppm in or on sweet corn forage and 13.92 ppm in or on sweet corn stover, the Agency has determined that tolerances should be established at 12.0 and 14.0 ppm, respectively. Therefore, EPA is proposing to establish tolerances in 40 CFR 180.182(a)(1) for combined endosulfan residues of concern in or on “corn, sweet, forage” at 12.0 ppm and “corn, sweet, stover” at 14.0 ppm.

Based on available data on cotton gin byproducts that show combined endosulfan residues of concern as high as 27.5 ppm, the Agency has determined that a tolerance on cotton gin byproducts should be established at 30.0 ppm. Therefore, EPA is proposing to establish a tolerance in 40 CFR 180.182(a)(1) for combined endosulfan residues of concern in or on “cotton, gin byproducts” at 30.0 ppm.

Based on the translation of data from carrot and potato, the Agency determined that a tolerance should be established for turnip roots at 0.2 ppm. Therefore, EPA is proposing to establish a tolerance in 40 CFR 180.182(a)(1) for combined endosulfan residues of concern in or on “turnip, roots” at 0.2 ppm.

EPA is proposing to revise commodity terminology in 40 CFR 180.182 to conform to current Agency practice as follows: “Cherry” to “cherry, sweet” and “cherry, sour”; “pecans” to “pecan”; and “turnip, greens” to “turnip, tops.”

2. Fenarimol. Because dry apple pomace, grape pomace (wet and dry), and raisin waste are no longer considered to be significant livestock feed items, the tolerances are no longer needed. Therefore, EPA is proposing to revoke the tolerances in 40 CFR 180.421(a)(1) for residues of the fungicide fenarimol in or on “apple, dry pomace”; and in 40 CFR 180.421(a)(2) for residues of the fungicide fenarimol and its metabolites in or on “grape pomace (wet and dry)” and “grape, raisin, waste.”

Based on available grape processing data, the Agency determined that combined residues of fenarimol and its metabolites marginally concentrated in juice and raisins. However, calculations using the anticipated residue for grape with the processing factors, show that the anticipated combined residues for the grape processed commodities (juice and raisin) are each less than the reassessed tolerance for grape (0.1 ppm). The tolerances for grape juice at 0.6 ppm and raisins at 0.6 ppm are no longer needed. Therefore, EPA is proposing to revoke the tolerances in 40 CFR 180.421(a)(2) for residues of the fungicide fenarimol and its metabolites in or on “grape, juice” and “grape, raisin.”

The Agency extrapolated data from a 28-day ruminant feeding study of exaggerated dietary burdens to the 1x feeding rate, and examined the expected impact of the average theoretical dietary burden from wet apple pomace (calculated using Food and Drug Administration monitoring data for apples). Of the currently registered uses of fenarimol, wet apple pomace is the only commodity considered a livestock feed item. For cattle, goats, horses, and sheep, the Agency concluded from monitoring, feeding, and metabolism data that expected fenarimol residues in muscle, fat, and kidney are calculated to be less than or near the enforcement method's limit of detection (0.003 ppm). Therefore, the Agency determined that for muscle, fat, and kidney of ruminants it is not possible to establish with certainty whether finite residues will be incurred, but there is a reasonable expectation of finite residues under 40 CFR 180.6(a)(2). For cattle, goats, horses, and sheep, EPA reassessed meat, kidney, and fat tolerances at 0.01 ppm, the method limit of quantitation. Therefore, EPA is proposing to decrease the tolerances in 40 CFR 180.421(a)(1) for residues of the fungicide fenarimol in or on “cattle, fat”; “cattle, kidney”; “goat, fat”; “goat, kidney”; “horse, fat”; “horse, kidney”; “sheep, fat”; and “sheep, kidney”; each from 0.1 to 0.01 ppm, and to maintain the tolerances at 0.01 ppm for “cattle, meat”; “goat, meat”; “horse, meat”; and “sheep, meat.”

Based on field trial data that show residues of fenarimol per se were non-detectable (less than 0.002 ppm, the method limit of detection) in pecan nut leat samples from six trials and in one trial were detected at 0.02 ppm, the Agency determined that the tolerance should be decreased from 0.1 to 0.02 ppm. Therefore, EPA is proposing to decrease the tolerance in 40 CFR 180.421(a)(1) for residues of fenarimol in or on “pecan” from 0.1 to 0.02 ppm.

Food and Drug Administration (FDA) monitoring data for apples during the period 1996-1999 showed nondetectable (less than 0.003 ppm, the method limit of detection) residues of fenarimol per se on apples. Based on the highest average field trial (HAFT) residue of 0.059 ppm for apples and a concentration factor of 3.7-fold for wet pomace, the maximum expected residue in wet pomace is 0.22 ppm and the Agency determined that a tolerance of 0.3 ppm on wet apple pomace is appropriate. Therefore, EPA is proposing to decrease the tolerance in 40 CFR 180.421(a)(1) for residues of fenarimol in or on “apple, wet pomace” from 2.0 to 0.3 ppm.

Food and Drug Administration (FDA) monitoring data for grapes during the period 1996-1999 showed nondetectable (less than 0.003 ppm, the method limit of detection) residues of fenarimol per se on grapes. Based on field trial data that indicate residues as high as 0.042 ppm for fenarimol and 0.073 for its metabolites in or on grapes harvested after 30 days following the last of four applications, the Agency determined that a tolerance of 0.1 ppm on grapes is appropriate. However, since the August 2002 fenarimol TRED, the registrant Gowan Company has requested that the Agency shorten the pre-harvest interval (PHI) from 30 days to 21 days on grapes. Based on the grape residue data submitted reflecting the 21-day PHI, the decrease in the tolerance reflected in the August 2002 TRED is appropriate at 0.1 ppm in or on grapes with a PHI of 21 days. However, EPA concluded that residues be expressed as fenarimol parent only, rather than the combined residues of fenarimol and its metabolites because parent only would be an adequate indicator of misuse and would harmonize with the CODEX MRLs. Therefore, EPA is proposing to recodify from 40 CFR 180.421(a)(2) to (a)(1) the tolerance for residues of fenarimol and its metabolites in or on “grape” at 0.2 ppm and to decrease the tolerance from 0.2 to 0.1 ppm.

Currently, a tolerance in 40 CFR 180.421(a)(2) for combined residues of fenarimol and its metabolites in or on banana exists at 0.5 ppm where not more than 0.25 ppm shall be present in the pulp after peel is removed. Fenarimol is presently not registered for use on banana in the United States. Based on foreign field trial data that indicate residues of fenarimol as high as 0.19 ppm and 0.075 ppm for its metabolites, the Agency determined that a tolerance of 0.25 ppm is appropriate for whole banana. It is current Agency practice to establish a tolerance on the whole commodity (including peel after removing and discarding crown tissue and stalk). Therefore, EPA is proposing to revise the tolerance commodity terminology in 40 CFR 180.421(a)(2) from “banana (Not more than 0.25 ppm shall be present in the pulp after peel is removed)” to “banana” and decrease the tolerance from 0.5 to 0.25 ppm.

Currently, tolerances in 40 CFR 180.421(a)(1) are expressed in terms of residues of fenarimol, while tolerances in (a)(2) are expressed in terms of combined residues of fenarimol and specific metabolites (calculated as fenarimol). As stated in the October 2001 Fenarimol Product and Residue Chemistry Chapter, EPA concluded that for enforcement purposes, the tolerances for plant commodities should be expressed in terms of parent only; i.e., residues of fenarimol per se would be an adequate indicator of misuse. Therefore, EPA is proposing to revise the tolerance expression to residues of fenarimol for the tolerances on “banana” and “cherry,” recodify these tolerances from 40 CFR 180.421(a)(2) to (a), and recodify all tolerances from 180.421(a)(1) to (a).

3. Imazalil. Tolerances for residues in livestock commodities are currently expressed as the combined residues of imazalil, 1-[2-(2,4-dichlorophenyl)-2-(2-propenyloxy)ethyl]-1H-imidazole, and its metabolite, 1-(2,4-dichlorophenyl)-2-(1H-imidazole-1-yl)-1-ethanol. Metabolites, with their parent compound, should serve as marker compounds which should be used to determine residue values for the dietary risk assessment. EPA has found that any metabolite containing the 2,4-dichlorophenyl moiety is of toxicological concern and must be included in the tolerance expression along with the parent compound imazalil. In order to account for the 2,4-dichlorophenyl group moiety toxicological concerns, the total toxic residues for imazalil will be adjusted using the ratios of imazalil and the marker metabolites (FK772 and FK284) that were found to account for a high percentage of the total toxic residues in the livestock metabolism studies. Therefore, EPA is proposing to amend the tolerance expression for livestock commodities for imazalil in 40 CFR 180.413 (a)(2) to regulate imazalil, 3-[2-(2,4-dichlorophenyl)-2-(2,3-dihydroxypropoxy)ethyl]-2,4-imidazolidinedione (FK772), and 3-[2-(2,4-dichlorophenyl)-2-(hydroxy)]-2,4-imidazolidinedione (FK284).

Because a tolerance exists for combined imazalil residues of concern on whole banana at 3.0 ppm and whole bananas are defined as the peel and the pulp after discarding the crown tissue and stalk, the tolerance on banana pulp at 0.2 ppm is no longer necessary. Therefore, the Agency is proposing to revoke the tolerance in 40 CFR 180.413(a) for the combined imazalil residues of concern in or on “banana, pulp” and revise the tolerance commodity terminology from “banana (whole)” to “banana.”

Because dried citrus is no longer considered to be a significant feed item for hogs, and because there are no other hog feeding commodities associated with existing imazalil tolerances, there is no reasonable expectation of finite residues of imazalil in hog tissues. Therefore, the Agency believes that tolerances on hog fat, hog liver, hog meat, and hog meat byproduct are no longer needed. Hence, EPA is proposing to revoke, in 40 CFR 180.413(a)(2), tolerances for combined imazalil residues of concern in or on the following: “Hog, fat”; “hog, liver”; “hog, meat”; and “hog, meat byproducts.”

In Tolerance Summary table for both the Imazalil TRED and Residue Chemistry Chapter, the recommendation to revoke horse fat was an inadvertent entry. There is no basis for revocation of horse fat listed in either document. Consequently, the Agency has revised the Imazalil Residue Chemistry Chapter accordingly and the “horse, fat” tolerance in 40 CFR 180.413(a)(2) will be maintained.

Cattle feeding data show that combined imazalil residues of concern ranged as high as just slightly greater than 0.05 ppm in milk at an exaggerated 5x feeding level, and therefore, the tolerance on milk should be increased from 0.01 to 0.02 ppm. Consequently, EPA is proposing to increase the tolerance in 40 CFR 180.413(a)(2) for combined imazalil residues of concern in milk to 0.02 ppm.

Also, the cattle feeding data show that combined imazalil residues of concern ranged as high as 14.7 ppm in liver at an exaggerated 70x feeding level, and therefore, the liver tolerances of cattle, goats, horse, and sheep should be decreased from 0.5 to 0.2 ppm. In addition, because exaggerated feeding data show combined imazalil regulated residues were highest in liver and the tolerance for meat byproducts should be equivalent to the level which is highest for either meat or any individual organ for which residues were measured, tolerances for the meat byproducts of cattle, goats, horses, and sheep should each be increased from 0.01 to 0.2 ppm. Therefore, EPA is proposing to increase the tolerances in 40 CFR 180.413(a)(2) for “cattle, meat byproducts”; “goat, meat byproducts”; “horse, meat byproducts”; and “sheep, meat byproducts” from 0.01 to 0.2 ppm. However, because increasing these meat byproduct tolerances to 0.2 ppm would cover their respective animal liver commodities, separate tolerances at 0.2 ppm in 40 CFR 180.413(a)(2) for “cattle, liver”; “goat, liver”; “horse, liver”; and “sheep, liver” are not needed. Therefore, EPA is proposing in 40 CFR 180.413(a)(2) to remove current tolerances for “cattle, liver”; “goat, liver”; “horse, liver”; and “sheep, liver” rather than modify them because these commodities would be covered.

Based on grain data that indicate the regulated residues of imazalil in or on barley grain and wheat grain are above the limit of quantitation (LOQ) of 0.08 ppm, the Agency determined to increase the tolerances for barley grain and wheat grain, each to 0.1 ppm. Therefore, the Agency is proposing to increase, in 40 CFR 180.413(a), tolerances for residues of imazalil in or on “barley, grain” and “wheat, grain” from 0.05 to 0.1 ppm.

Based on residue data that indicate levels of imazalil and its metabolite in citrus oil as high as 187 ppm, the Agency determined that a tolerance of 200 ppm is warranted for citrus oil. Citrus oils are not considered ready-to-eat and are used primarily as a minor ingredient in chewing gums, baked goods, gelatins, and puddings. The dilution factor for citrus oil (238X) in its conversion to ready-to-eat form exceeds the average concentration factor (28X based on oranges) from the raw agricultural commodity to the oil by a factor of 8.5. As consumed, the concentration of imazalil and its metabolite, expressed as imazalil equivalents, are expected to be less than the concentration in the raw agricultural commodity (whole fruit). Therefore, EPA is proposing to increase the tolerance in 40 CFR 180.413(a), for residues of imazalil in “citrus oil” from 25.0 to 200.0 ppm.

Because the Agency now considers barley hay and wheat hay to be raw agricultural commodities (RACs), tolerances are warranted. Based on residue data for forage and straw of barley and wheat that indicate residues of concern as high as 0.12 ppm for spring barley straw and 0.24 ppm for winter wheat straw (each after a 2x correction factor for storage stability), and by translating available data for barley forage and straw to barley hay and available data for wheat forage and straw to wheat hay, EPA determined that tolerances on hay should be established at 0.5 ppm. Therefore, EPA is proposing to establish separate tolerances in 40 CFR 180.413(a) for residues of imazalil in or on “barley, hay” and “wheat, hay” at 0.5 ppm each.

4. Oryzalin. In order to conform to current Agency practice, EPA is proposing in 40 CFR 180.304(a) to revise the commodity terminology “small fruit” at 0.05 ppm into individual tolerances for “berry, group 13”; “cranberry”; “grape”; and “strawberry” each at 0.05 ppm. Also, EPA is proposing to revise commodity terminology to conform to current Agency practice as follows: “Fruit, citrus” to “fruit, citrus, group 10”; “fruit, pome” to “fruit, pome, group 11” and “fruit, stone” to “fruit, stone, group 12.”

In addition, in order to conform to current Agency practice, EPA is proposing to recodify the regional tolerances for guava and papaya from 40 CFR 180.304(b) to (c), and establish and reserve sections for emergency exemptions in 40 CFR 180.304(b) and indirect or inadvertent residues in 40 CFR 180.304(d).

5. Sodium acifluorfen. Tolerances for sodium acifluorfen are currently expressed as the combined residues of the herbicide sodium salt of acifluorfen (sodium 5-[2-chloro-4-trifluoromethyl)phenoxy]-2-nitrobenzoic acid) and its metabolites (the corresponding acid, methyl ester, and amino analogues). Typically, the salt form of an acid is expressed with the suffix “ate,” and therefore a salt of nitrobenzoic acid should be termed a “nitrobenzoate.” While the tolerance expression for sodium acifluorfen in 40 CFR 180.383 is appropriate, EPA is proposing to revise only the name of the sodium salt of acifluorfen in the tolerance expression from “sodium 5-[2-chloro-4-(trifluoromethyl)phenoxy]-2-nitrobenzoic acid” to “sodium 5-[2-chloro-4-(trifluoromethyl)phenoxy]-2-nitrobenzoate.”

Based on field trial data that indicate residues of sodium acifluorfen in or on rice straw as high as 0.124 ppm, the Agency determined that the tolerance for rice straw should be increased to 0.2 ppm. Therefore, EPA is proposing to increase the tolerance for “rice, straw” in 40 CFR 180.383 from 0.1 to 0.2 ppm.

In order to conform to current Agency practice in 40 CFR 180.383, EPA is proposing to revise commodity terminology for “soybean” to “soybean, seed.”

6. Trifluralin. Because there have been no active registered uses for trifluralin on mung bean sprouts or upland cress since 1989, and therefore the tolerances are no longer needed, EPA is proposing to revoke the tolerances in 40 CFR 180.207 for residues of trifluralin in or on “bean, mung, sprouts” and “cress, upland.”

Because adequate residue data exists for field corn grain and data may be bridged from wheat and sorghum processing studies to barley, sorghum, and wheat, the Agency has determined that the commodity group for grain, crops, except corn, sweet and rice is inappropriate and should be revoked concomitant with the establishment of individual tolerances for barley grain and sorghum grain. No active registrations have existed on oats since cancellation of a soil treatment for oats in May 2001, and therefore an oat grain tolerance is not needed. Separate tolerances already exist for corn and wheat grain. Based on translating available residue data from wheat and sorghum processing studies which showed that trifluralin residues were non-detectable (<0.01 ppm) in or on wheat grain and sorghum grain, the Agency determined that the tolerances for barley grain and sorghum grain should each be established at 0.05 ppm (the enforcement method LOQ). Therefore, EPA is proposing in 40 CFR 180.207 to revoke the group tolerance “grain, crop, except corn, sweet and rice grain” and establish individual tolerances for “barley, grain” and “sorghum, grain, grain;” each at 0.05 ppm.

In order to conform to current Agency practice, the obsolete commodity definition for “legume, forage” should be revised to “vegetable, foliage of legume, group 7” and “alfalfa, forage.” Based on field residue data that indicate residues of trifluralin as high as 2.2 ppm on alfalfa forage, the Agency determined that the appropriate tolerance should be increased from 0.05 to 3.0 ppm. Therefore, EPA is proposing to revise the commodity tolerance for “legume, forage” in 40 CFR 180.207 at 0.05 ppm into “vegetable, foliage of legume, group 7” at 0.05 ppm and an individual tolerance for “alfalfa, forage,” increasing the tolerance for “alfalfa, forage” from 0.05 to 3.0 ppm.

Because celery data will be translated to endive, and because residue data are not available on all of the representative commodities from Crop Group 4, the Agency determined that the commodity group for “vegetable, leafy” should be revised to “vegetable, leaves of root and tuber, group 2” and “vegetable, brassica, leafy group 5” with separate tolerances for “celery” and “endive.” Therefore, EPA is proposing in 40 CFR 180.207 for residues of trifluralin to remove the commodity group “vegetable, leafy, except brassica” and replace it with separate tolerances for “celery”; “endive”; “vegetable, leaves of root and tuber, group 2”; and “vegetable, brassica, leafy group 5” at 0.05 ppm.

In order to conform to current Agency practice, the obsolete commodity definition for “vegetables, root (exc. carrots)” should be revised to “vegetable, root and tuber, group 1, except carrot” and “vegetable, bulb, group 3.” Based on available trifluralin residue data for the representative commodities from each group (residues on radishes as high as 0.026 ppm; residues on green onions as high as 0.016 ppm), EPA determined that a tolerance of 0.05 ppm is appropriate for each group. Therefore, EPA is proposing to revise the commodity tolerance for “vegetable, root (exc. carrot)” in 40 CFR 180.207 at 0.05 ppm to “vegetable, root and tuber, group 1, except carrot” and “vegetable, bulb, group 3,” each at 0.05 ppm.

In addition, the obsolete commodity definition for “seed and pod vegetables” group should be revised to “vegetable, legume, group 6” and separate tolerances for “okra” and “dill.” However, because there have been no active registrations for dill since October 1995 and the tolerance is no longer needed, the Agency does not believe there is reason to maintain a dill tolerance, and EPA is not proposing to establish one. Based on the available data for okra and selected members of crop group 6, a tolerance of 0.05 ppm would be appropriate for each. Therefore, EPA is proposing, in 40 CFR 180. 207, for resides of trifluralin to revise the commodity tolerance for “vegetables, seed and pod” in 40 CFR 180.207 at 0.05 ppm to “vegetable, legume, group 6” and “okra,” each at 0.05 ppm.

Based on data that indicate residues of trifluralin in or on alfalfa hay as high as 1.6 ppm, the Agency determined that the alfalfa hay tolerance should be increased to 2.0 ppm. Therefore, EPA is proposing to increase the tolerance in 40 CFR 180.207 for residues of trifluralin in or on “alfalfa, hay” from 0.2 to 2.0 ppm.

Based on data that indicate residues of trifluralin in or on peanut hay, as high as 0.014 ppm, the Agency determined that a tolerance should be established for peanut hay at 0.05 ppm. Therefore, EPA is proposing to establish a tolerance in 40 CFR 180.207 for residues of trifluralin in or on “peanut, hay” at 0.05 ppm.

Based on available mustard seed data that indicate residues of trifluralin are non-detectable (<0.01 ppm), tree nut field trial data, and weight of evidence for trifluralin residues in tree crops that indicate residues of trifluralin in or on almond hulls are expected to be non-detectable (<0.01 ppm), the Agency determined that tolerances should be established for mustard seed and almond hulls, each at 0.05 ppm (the enforcement method LOQ). Therefore, EPA is proposing to establish tolerances in 40 CFR 180.207 for residues of trifluralin in or on “mustard, seed” and “almond, hulls;” each at 0.05 ppm.

Available data show that residues of trifluralin in or on cotton gin byproducts are warranted at 0.05 ppm. Therefore, EPA is proposing to establish a tolerance in 40 CFR 180.207 for residues of trifluralin in or on “cotton, gin byproducts” at 0.05 ppm.

EPA is proposing to revise commodity terminology in 40 CFR 180.207 to conform to current Agency practice as follows: “Hop” is proposed to be changed to read “hop, dried cones” and “sorghum, forage” is proposed to be changed to read “sorghum, grain, forage.”

7. Ziram. Currently, tolerances for the fungicide ziram in 40 CFR 180.116 are expressed in terms of residues of ziram (zinc dimethyldithiocarbamate), calculated as zineb (zinc ethylenebisdithiocarbamate). However, the tolerances for ziram and other dithiocarbamates are enforced by a common moiety method that determines carbon disulfide. (Decomposition or acid digestion of dithiocarbamates generates carbon disulfide). Also, the CODEX residue definition for dithiocarbamates is expressed as carbon disulfide. Consequently, the Agency believes that the tolerance expression for ziram should be expressed in terms of carbon disulfide. Such a change in tolerance expression allows harmonization of U.S. tolerances with Codex MRLs and should also apply to the other dithiocarbamate fungicides that are determined by the carbon disulfide common moiety method and have current tolerances. Nevertheless, according to 40 CFR 180.3(d)(5), total dithiocarbamate residue on the same raw agricultural commodity shall not exceed that permitted by the highest tolerance for any one member of the class, calculated as zineb (zinc ethylenebisdithiocarbamate). Consequently, in the interim, until all dithiocarbamate tolerance expressions can be changed simultaneously and 40 CFR section 180.3(d)(5) revised, EPA is proposing in 40 CFR 180.116 to amend the tolerance expression for residues of ziram (zinc dimethyldithiocarbamate), from calculated as zineb (zinc ethylenebisdithiocarbamate) to calculated as zineb (zinc ethylenebisdithiocarbamate) and carbon disulfide.

Because the associated commodity registrations have not been active since 1991 and the tolerances are no longer needed, EPA is proposing to revoke, in 40 CFR 180. 116, tolerances for residues of ziram in or on the following: “Broccoli”; “Brussel sprouts”; “carrot, root”; “collards”; “gooseberry”; “kale”; “kohlrabi”; “lettuce”; “loganberry”; “onion”; “peanut”; “pea”; “radish, roots”; “radish, tops”; “raspberry”; “rutabaga, roots”; “rutabaga, tops”; “spinach”; “turnip, greens”; and “turnip, roots.”

Because registrations for ziram use on eggplant and pepper have not been active since 1994, and the tolerances are no longer needed, EPA is proposing to revoke, in 40 CFR 180.116, tolerances for residues of ziram in or on the following: “eggplant” and “pepper.”

Because registrations for ziram use on bean, celery, cranberry, cucumber, melon, pumpkin, and squash have not been active since 1995, and the tolerances are no longer needed, EPA is proposing to revoke, in 40 CFR 180.116, tolerances for residues of ziram in or on the following: “Bean”; “celery”; “cranberry”; “cucumber”; “melon”; “pumpkin”; “squash”; and “squash, summer.”

Because the last food-use U.S. registration for ziram use on quince was cancelled in 1996, and the tolerance is no longer needed, EPA is proposing to revoke the tolerance in 40 CFR 180. 116 for ziram residues in or on “quince.”

The last U.S. registration for “beet, garden, roots”; “beet, garden, tops”; “cabbage”; and “cauliflower;” was canceled due to non-payment of the year 2005 maintenance fee as announced in a Federal Register Notice published on August 3, 2005 (70 FR 44637) (FRL-7726-4). The Agency permitted the sale and distribution of existing stocks until January 15, 2006. The Agency believes that there is sufficient time for end users to exhaust those existing stocks and treated commodities to clear the channels of trade by January 15, 2007. Therefore, EPA is proposing to revoke the tolerances in 40 CFR 180.116 for ziram residues in or on “beet, garden, roots”; “beet, garden, tops”; “cabbage”; and “cauliflower” each with an expiration/revocation date of January 15, 2007.

Active ziram registrations currently exist for blackberries. However, ziram tolerances at 7.0 ppm on “boysenberry”; “dewberry”; and “youngberry”; are no longer needed because their uses are covered by the existing tolerance at 7.0 ppm on blackberry. Therefore, EPA is proposing to revoke the tolerances in 40 CFR 180.116 for “boysenberry”; “dewberry”; and “youngberry.”

In accordance with 40 CFR 180.1(h) which indicates that the tolerance for peach also covers the use in or on nectarines, the tolerance on nectarine is no longer needed. Therefore, EPA is proposing to remove the tolerance in 40 CFR 180.116 for residues of ziram in or on “nectarine.”

Based on field trial data that indicate residues of ziram in or on almond hulls as high as 18.6 ppm, the Agency has determined that a tolerance should be established on almond hulls at 20 ppm. Therefore, EPA is proposing to establish a tolerance in 40 CFR 180.116 for “almond, hulls” at 20.0 ppm.

Based on field trial data that indicate residues of ziram in or on apricots as high as 18.5 ppm, the Agency determined that the tolerance for apricot should be increased to 20 ppm. Therefore, the Agency is proposing to increase the tolerance for “apricot” in 40 CFR 180.116 from 7.0 to 20.0 ppm.

Based on field trial data that indicate residues of ziram in or on apple, pear, and cherry at 5.6, and 5.7, and 5.5 ppm, respectively, the Agency determined that tolerances for apple, pear, and cherry should be decreased to 6.0 ppm. Therefore, EPA is proposing to decrease the tolerances in 40 CFR 180.116 from 7.0 to 6.0 ppm for the following: “Apple”; “pear”; and “cherry.”

Based on field trial data that indicates residues of ziram in or on tomatoes at less than 7.0 ppm, the Agency determined that the tomato tolerance should be decreased to 2.0 ppm. Therefore, EPA is proposing to decrease the tolerance for “tomato” in 40 CFR 180.116 from 7.0 to 2.0 ppm.

Also, while the ziram RED recommends revocation for the tolerance on “strawberry,” active registrations associated with that commodity use currently exist, and therefore the tolerance will not be proposed for revocation at this time. However, the Agency intends to follow-up with the registrants and expects to propose revocation in a future Federal Register Notice.

B. What is the Agency's Authority for Taking this Action?

A “tolerance” represents the maximum level for residues of pesticide chemicals legally allowed in or on raw agricultural commodities and processed foods. Section 408 of FFDCA, 21 U.S.C. 346a, as amended by the FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore “adulterated” under section 402(a) of the FFDCA, 21 U.S.C. 342(a). Such food may not be distributed in interstate commerce (21 U.S.C. 331(a)). For a food-use pesticide to be sold and distributed, the pesticide must not only have appropriate tolerances under the FFDCA, but also must be registered under FIFRA (7 U.S.C. 136 et seq.). Food-use pesticides not registered in the United States must have tolerances in order for commodities treated with those pesticides to be imported into the United States.

EPA is proposing these tolerance actions to implement the tolerance recommendations made during the reregistration and tolerance reassessment processes (including follow-up on canceled or additional uses of pesticides). As part of these processes, EPA is required to determine whether each of the amended tolerances meets the safety standard of the Food Quality Protection Act (FQPA). The safety finding determination is discussed in detail in each Post-FQPA RED and TRED for the active ingredient. REDs and TREDs recommend the implementation of certain tolerance actions, including modifications to reflect current use patterns, to meet safety findings, and change commodity names and groupings in accordance with new EPA policy. Printed and electronic copies of the REDs and TREDs are available as provided in Unit II.A.

EPA has issued post-FQPA REDs for endosulfan, sodium acifluorfen, and ziram; and TREDs for fenarimol, imazalil, oryzalin, and trifluralin. (REDs for oryzalin and trifluralin were both completed prior to FQPA. The imazalil RED followed the TRED and because fenarimol was registered after November 1, 1984, it did not need to undergo reregistration, and therefore a RED was not needed). REDs and TREDs contain the Agency's evaluation of the data base for these pesticides, including requirements for additional data on the active ingredients to confirm the potential human health and environmental risk assessments associated with current product uses, and in REDs state conditions under which these uses and products will be eligible for reregistration. The REDs and TREDs recommended the establishment, modification, and/or revocation of specific tolerances. RED and TRED recommendations such as establishing or modifying tolerances, and in some cases revoking tolerances, are the result of assessment under the FQPA standard of “reasonable certainty of no harm.” However, tolerance revocations recommended in REDs and TREDs that are proposed in this document do not need such assessment when the tolerances are no longer necessary.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of the FFDCA, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

When EPA establishes tolerances for pesticide residues in or on raw agricultural commodities, consideration must be given to the possible residues of those chemicals in meat, milk, poultry, and/or eggs produced by animals that are fed agricultural products (for example, grain or hay) containing pesticides residues (40 CFR 180.6). When considering this possibility, EPA can conclude that:

1. Finite residues will exist in meat, milk, poultry, and/or eggs.

2. There is a reasonable expectation that finite residues will exist.

3. There is a reasonable expectation that finite residues will not exist. If there is no reasonable expectation of finite pesticide residues in or on meat, milk, poultry, or eggs, tolerances do not need to be established for these commodities (40 CFR 180.6(b) and (c)).

EPA has evaluated certain specific meat, milk, poultry, and egg tolerances proposed for revocation in this rule and has concluded that there is no reasonable expectation of finite pesticide residues of concern in or on those commodities.

C. When do These Actions Become Effective?

With the exception of certain tolerances for ziram for which EPA is proposing specific expiration/revocation dates, the Agency is proposing that tolerance revocations, modifications, establishments, and commodity terminology revisions become effective on the date of publication of the final rule in the Federal Register. With the exception of ziram, the Agency believes that the proposed revocations herein will affect tolerances for uses which have been canceled for many years or are no longer needed and that treated commodities have had sufficient time for passage through the channels of trade. EPA is proposing an expiration/revocation date of January 15, 2007, for certain ziram tolerances. The Agency believes that this revocation date allows users to exhaust stocks and allows sufficient time for passage of treated commodities through the channels of trade. However, if EPA is presented with information that existing stocks would still be available and that information is verified, the Agency will consider extending the expiration date of the tolerance. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by FQPA. Under this section, any residues of these pesticides in or on such food shall not render the food adulterated so long as it is shown to the satisfaction of the Food and Drug Administration that: (1) The residue is present as the result of an application or use of the pesticide at a time and in a manner that was lawful under FIFRA, and (2) the residue does not exceed the level that was authorized at the time of the application or use to be present on the food under a tolerance or exemption from tolerance. Evidence to show that food was lawfully treated may include records that verify the dates when the pesticide was applied to such food.

D. What Is the Contribution to Tolerance Reassessment?

By law, EPA is required by August 2006 to reassess the tolerances in existence on August 2, 1996. As of March 13, 2006, EPA has reassessed over 7,860 tolerances. Regarding tolerances mentioned in this proposed rule, tolerances in existence as of August 2, 1996, were previously counted as reassessed at the time of the signature completion of a post-FQPA RED or TRED for each active ingredient. Therefore, no further tolerance reassessments would be counted toward the August 2006 review deadline.

III. Are the Proposed Actions Consistent with International Obligations?

The tolerance revocations in this proposal are not discriminatory and are designed to ensure that both domestically produced and imported foods meet the food safety standard established by the FFDCA. The same food safety standards apply to domestically produced and imported foods.

EPA is working to ensure that the U.S. tolerance reassessment program under FQPA does not disrupt international trade. EPA considers Codex Maximum Residue Limits (MRLs) in setting U.S. tolerances and in reassessing them. MRLs are established by the Codex Committee on Pesticide Residues, a committee within the Codex Alimentarius Commission, an international organization formed to promote the coordination of international food standards. It is EPA's policy to harmonize U.S. tolerances with Codex MRLs to the extent possible, provided that the MRLs achieve the level of protection required under FFDCA. EPA's effort to harmonize with Codex MRLs is summarized in the tolerance reassessment section of individual Reregistration Eligibility Decision documents. EPA has developed guidance concerning submissions for import tolerance support (65 FR 35069, June 1, 2000) (FRL-6559-3). This guidance will be made available to interested persons. Electronic copies are available on the internet at http://www.epa.gov. On the Home Page select “Laws, Regulations, and Dockets,” then select “Regulations and Proposed Rules” and then look up the entry for this document under “Federal Register—Environmental Documents.” You can also go directly to the “Federal Register” listings at http://www.epa.gov/fedrgstr.

IV. Statutory and Executive Order Reviews

In this proposed rule, EPA is proposing to establish tolerances under FFDCA section 408(e), and also modify and revoke specific tolerances established under FFDCA section 408. The Office of Management and Budget (OMB) has exempted these types of actions (i.e., establishment and modification of a tolerance and tolerance revocation for which extraordinary circumstances do not exist) from review under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020), respectively, and were provided to the Chief Counsel for Advocacy of the Small Business Administration. Taking into account this analysis, and available information concerning the pesticides listed in this proposed rule, the Agency hereby certifies that this proposed action will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticide named in this proposed rule, the Agency knows of no extraordinary circumstances that exist as to the present proposal that would change the EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: April 11, 2006.
James Jones,
Director, Office of Pesticide Programs.

Therefore, it is proposed that 40 CFR chapter I be amended as follows:

PART 180

—AMENDED

1. The authority citation for part 180 continues to read as follows:

Authority: 21 U.S.C. 321(q), 346a and 371.

2. Section 180.116 is amended by revising paragraph (a) to read as follows:

§ 180.116 Ziram; tolerances for residues.

(a) General. Tolerances are established for residues of the fungicide ziram (zinc dimethyldithiocarbamate) calculated as zineb (zinc ethylenebisdithiocarbamate) and carbon disulfide, in or on the following food commodities:

Commodity | Parts per million | Expiration/Revocation Date
Almond | 0.1¹ | None
Almond, hulls | 20.0¹ | None
Apple | 6.0¹ | None
Apricot | 20.0¹ | None
Beet, garden, roots | 7.0¹ | 1/15/07
Beet, garden, tops | 7.0¹ | 1/15/07
Blackberry | 7.0¹ | None
Blueberry | 7.0¹ | None
Cabbage | 7.0¹ | 1/15/07
Cauliflower | 7.0¹ | 1/15/07
Cherry | 6.0¹ | None
Grape | 7.0¹ | None
Huckleberry | 7.0¹ | None
Peach | 7.0¹ | None
Pear | 6.0¹ | None
Pecan | 0.1¹ | None
Strawberry | 7.0¹ | None
Tomato | 2.0¹ | None
¹ See footnote 1 to § 180.114.

* * * * *

3. Section 180.182 is amended by revising paragraph (a) to read as follows:

§ 180.182 Endosulfan; tolerances for residues.

(a) General. (1) Tolerances are established for the combined residues of the insecticide endosulfan (6,7,8,9,10,10-hexachloro-1,5,5a,6,9,9a-hexahydro-6,9-methano-2,4,3-benzodioxathiepin-3-oxide) (alpha and beta isomers) and its metabolite endosulfan sulfate (6,7,8,9,10,10-hexachloro-1,5,5a,6,9,9a-hexahydro-6,9-methano-2,4,3-benzodioxathiepin-3,3-dioxide) in or on the food commodities as follows:

Commodity | Parts per million
Alfalfa, fresh | 0.3
Alfalfa, hay | 1.0
Almond | 0.3
Almond, hulls | 1.0
Apple | 1.0
Apple, wet pomace | 5.0
Apricot | 2.0
Barley, grain | 0.3
Barley, straw | 0.4
Bean | 2.0
Blueberry | 0.3
Broccoli | 3.0
Brussels sprouts | 2.0
Cabbage | 4.0
Carrot, roots | 0.2
Cattle, fat | 13.0
Cattle, liver | 5.0
Cattle, meat | 2.0
Cattle, meat byproducts, except liver | 1.0
Cauliflower | 2.0
Celery | 8.0
Cherry, sour | 2.0
Cherry, sweet | 2.0
Collards | 2.0
Corn, sweet, forage | 12.0
Corn, sweet, kernel plus cob with husks removed | 0.2
Corn, sweet, stover | 14.0
Cotton, gin byproducts | 30.0
Cotton, undelinted seed | 1.0
Eggplant | 1.0
Filbert | 0.2
Goat, fat | 13.0
Goat, liver | 5.0
Goat, meat | 2.0
Goat, meat byproducts, except liver | 1.0
Grape | 2.0
Hog, fat | 13.0
Hog, liver | 5.0
Hog, meat | 2.0
Hog, meat byproducts, except liver | 1.0
Horse, fat | 13.0
Horse, liver | 5.0
Horse, meat | 2.0
Horse, meat byproducts, except liver | 1.0
Kale | 2.0
Lettuce, head | 11.0
Lettuce, leaf | 6.0
Milk, fat (=N in whole milk) | 2.0
Mustard greens | 2.0
Mustard, seed | 0.2
Nectarine | 2.0
Nut, macadamia | 0.2
Oat, grain | 0.3
Oat, straw | 0.4
Peach | 2.0
Pear | 2.0
Pea, succulent | 2.0
Pecan | 0.2
Pepper | 2.0
Pineapple | 1.0
Pineapple, process residue | 20.0
Plum | 2.0
Plum, prune | 2.0
Potato | 0.2
Rapeseed, seed | 0.2
Rye, grain | 0.3
Rye, straw | 0.3
Sheep, fat | 13.0
Sheep, liver | 5.0
Sheep, meat | 2.0
Sheep, meat byproducts, except liver | 1.0
Spinach | 2.0
Strawberry | 2.0
Sugarcane, cane | 0.5
Sweet potato, roots | 0.15
Tomato | 1.0
Turnip, roots | 0.2
Turnip, tops | 2.0
Vegetable, cucurbit, group 9 | 1.0
Walnut | 0.2
Watercress | 2.0
Wheat, grain | 0.3
Wheat, straw | 0.4

(2) A tolerance of 24 parts per million is established for the combined residues of the insecticide endosulfan (6,7,8,9,10,10-hexachloro-1,5,5a,6,9,9a-hexahydro-6,9-methano-2,4,3-benzodioxathiepin-3-oxide) (alpha and beta isomers) and its metabolite endosulfan sulfate (6,7,8,9,10,10-hexachloro-1,5,5a,6,9,9a-hexahydro-6,9-methano-2,4,3-benzodioxathiepin-3,3-dioxide) in or on dried tea (reflecting less than 0.1 part per million residues in beverage tea) resulting from application of the insecticide to growing tea.

* * * * *

4. Section 180.207 is amended by revising paragraph (a) to read as follows:

§ 180.207 Trifluralin; tolerances for residues.

(a) General. Tolerances are established for residues of the herbicide and plant growth regulator trifluralin (alpha, alpha, alpha-trifluoro-2,6-dinitro-N,N-dipropyl-p-toluidine) in or on the following raw agricultural commodities:

Commodity | Parts per million
Alfalfa, forage | 3.0
Alfalfa, hay | 2.0
Almond, hulls | 0.05
Asparagus | 0.05
Barley, grain | 0.05
Barley, hay | 0.05
Barley, straw | 0.05
Carrot, roots | 1.0
Celery | 0.05
Corn, field, forage | 0.05
Corn, field, grain | 0.05
Corn, field, stover | 0.05
Cotton, gin byproducts | 0.05
Cotton, undelinted seed | 0.05
Endive | 0.05
Flax, seed | 0.05
Fruit, citrus, group 10 | 0.05
Fruit, stone, group 12 | 0.05
Grape | 0.05
Hop, dried cones | 0.05
Mustard, seed | 0.05
Nut, tree, group 14 | 0.05
Okra | 0.05
Peanut | 0.05
Peanut, hay | 0.05
Peppermint oil | 2.0
Peppermint, tops | 0.05
Rapeseed, seed | 0.05
Safflower, seed | 0.05
Sorghum, grain, forage | 0.05
Sorghum, grain, grain | 0.05
Sorghum, grain, stover | 0.05
Spearmint oil | 2.0
Spearmint, tops | 0.05
Sugarcane, cane | 0.05
Sunflower, seed | 0.05
Vegetable, brassica, leafy group 5 | 0.05
Vegetable, bulb, group 3 | 0.05
Vegetable, cucurbit, group 9 | 0.05
Vegetable, foliage of legume, group 7 | 0.05
Vegetable, fruiting, group 8 | 0.05
Vegetable, leaves of root and tuber, group 2 | 0.05
Vegetable, legume, group 6 | 0.05
Vegetable, root and tuber, group 1, except carrot | 0.05
Wheat, grain | 0.05
Wheat, straw | 0.05

* * * * *

5. Section 180.304 is revised to read as follows:

§ 180.304 Oryzalin; tolerances for residues.

(a) General. Tolerances are established for residues of the herbicide oryzalin (3,5-dinitro-N⁴,N⁴-dipropylsulfanilamide) in or on the following raw agricultural commodities:

Commodity | Parts per million
Almond, hulls | 0.05
Avocado | 0.05
Berry, group 13 | 0.05
Cranberry | 0.05
Fig | 0.05
Fruit, citrus, group 10 | 0.05
Fruit, pome, group 11 | 0.05
Fruit, stone, group 12 | 0.05
Grape | 0.05
Kiwifruit | 0.05
Nut, tree, group 14 | 0.05
Olive | 0.05
Pistachio | 0.05
Pomegranate | 0.05
Strawberry | 0.05

(b) Section 18 emergency exemptions. [Reserved]

(c) Tolerances with regional registrations. Tolerances with regional registration, as defined in § 180.1(n), are established for residues of oryzalin (3,5-dinitro-N⁴,N⁴-dipropylsulfanilamide) in or on the following raw agricultural commodities:

Commodity | Parts per million
Guava | 0.05
Papaya | 0.05

(d) Indirect or inadvertent residues. [Reserved]

6. Section 180.383 is amended by revising paragraph (a) to read as follows:

§ 180.383 Sodium salt of acifluorfen; tolerances for residues.

(a) General. Tolerances are established for the combined residues of the herbicide sodium salt of acifluorfen (sodium 5-[2-chloro-4-(trifluoromethyl)phenoxy]-2-nitrobenzoate) and its metabolites (the corresponding acid, methyl ester, and amino analogues) in or on the following raw agricultural commodities:

Commodity | Parts per million
Peanut | 0.1
Rice, grain | 0.1
Rice, straw | 0.2
Soybean, seed | 0.1
Strawberry | 0.05

* * * * *

7. Section 180.413 is amended by revising paragraph (a) to read as follows:

§ 180.413 Imazalil; tolerances for residues.

(a) General. (1) Tolerances are established for the combined residues of the fungicide imazalil 1-[2-(2,4-dichlorophenyl)-2-(2-propenyloxy)ethyl]-1H-imidazole and its metabolite 1-(2,4-dichlorophenyl)-2-(1H-imidazole-1-yl)-1-ethanol in or on the following food commodities:

Commodity | Parts per million
Banana | 3.0
Barley, grain | 0.1
Barley, hay | 0.5
Barley, straw | 0.5
Citrus, dried pulp | 25.0
Citrus, oil | 200.0
Fruit, citrus, postharvest | 10.0
Wheat, forage | 0.5
Wheat, grain | 0.1
Wheat, hay | 0.5
Wheat, straw | 0.5

(2) Tolerances are established for the combined residues of the fungicide imazalil 1-[2-(2,4-dichlorophenyl)-2-(2-propenyloxy)ethyl]-1H-imidazole, and its metabolites, 3-[2-(2,4-dichlorophenyl)-2-(2,3-dihydroxypropoxy)ethyl]-2,4-imidazolidinedione (FK772) and 3-[2-(2,4-dichlorophenyl)-2-(hydroxy)]-2,4-imidazolidinedione (FK284) in or on the following food commodities:

Commodity | Parts per million
Cattle, fat | 0.01
Cattle, meat | 0.01
Cattle, meat byproducts | 0.2
Goat, fat | 0.01
Goat, meat | 0.01
Goat, meat byproducts | 0.2
Horse, fat | 0.01
Horse, meat | 0.01
Horse, meat byproducts | 0.2
Milk | 0.02
Sheep, fat | 0.01
Sheep, meat | 0.01
Sheep, meat byproducts | 0.2

* * * * *

8. Section 180.421 is amended by revising paragraph (a) to read as follows:

§ 180.421 Fenarimol; tolerances for residues.

(a) General. Tolerances are established for residues of the fungicide fenarimol [alpha-(2-chlorophenyl)-alpha-(4-chlorophenyl)-5-pyrimidinemethanol] in or on the following raw agricultural commodities:

Commodity | Parts per million
Apple | 0.1
Apple, wet pomace | 0.3
Banana¹ | 0.25
Cherry | 1.0
Cattle, fat | 0.01
Cattle, kidney | 0.01
Cattle, meat | 0.01
Cattle, meat byproducts, except kidney | 0.05
Goat, fat | 0.01
Goat, kidney | 0.01
Goat, meat | 0.01
Goat, meat byproducts, except kidney | 0.05
Grape | 0.1
Horse, fat | 0.01
Horse, kidney | 0.01
Horse, meat | 0.01
Horse, meat byproducts, except kidney | 0.05
Pear | 0.1
Pecan | 0.02
Sheep, fat | 0.01
Sheep, kidney | 0.01
Sheep, meat | 0.01
Sheep, meat byproducts, except kidney | 0.05
¹ There are no U.S. registrations for banana as of April 26, 1995.

* * * * *

[FR Doc. E6-6207 Filed 4-25-06; 8:45 am]

BILLING CODE 6560-50-S